POSTAL SERVICE

39 CFR Part 111

Temporary Mail Forwarding Policy

AGENCY: Postal Service.

ACTION: Interim rule and request for comments.

SUMMARY: This document amends the standards in the Domestic Mail Manual concerning the duration and submission of temporary change-of-address orders.

DATES: Effective August 3, 2006. Comments must be received by August 7, 2006.

ADDRESSES: Written comments should be mailed or delivered to the Office of Product Management—Addressing, National Customer Support Center, United States Postal Service, 6060 Primacy Pkwy, Ste. 201, Memphis, TN 38188-0001. Comments may be transmitted via facsimile to 901-821-6206 or via e-mail to charles.hunt@usps.gov. Copies of all written comments will be available for inspection and photocopying at USPS Headquarters Library, 475 L'Enfant Plaza SW., 11th Floor N, Washington, DC 20260-1450 between 9 a.m. and 4 p.m., Monday through Friday.

FOR FURTHER INFORMATION CONTACT: Charles B. Hunt, Product Management, (901) 681-4651, James Wilson, Address Management, (901) 681-4676.

SUPPLEMENTARY INFORMATION: The Postal Service offers temporary and permanent change of address services to its customers, and forwards mail for generous time periods free of charge, in order to deliver mail accurately and efficiently to its intended recipient. A temporary change-of-address indicates the customer's intention to return to the original address and resume the receipt of mail at that location. Temporary mail forwarding may not exceed twelve months duration.

To better serve its customers, the Postal Service is implementing new procedures in the provision of temporary forwarding of mail. These new procedures are intended to improve mail deliverability to our customers, ensure that mail is delivered to the addressee as quickly as possible, and reduce the volume of mail forwarded unnecessarily.

As background, temporary change-of-address filings typically comprise 7-8 percent of the approximate 46 million change-of-address orders received by the Postal Service each year. Forwarding of mail based on temporary change of address orders is estimated to account for 11 percent of all forwarded mail volume. Approximately 62 percent of all temporary filings have a length of six months or less. The Postal Service received more than 509,000 temporary change-of-address orders in 2005 that did not specify when the forwarding period should end; under current policy, the Postal Service treats these as orders to forward mail for a twelve month period after the start date. The Postal Service also received more than 90,000 temporary changes of address orders where the duration was for a period of 14 days or less. This includes more than 14,000 that had a total duration to forward mail of only 1 day.

The Postal Service is adopting two changes to the Domestic Mail Manual concerning temporary mail forwarding policies. The changes, and the reasons underlying each, are explained below. The changes will be effective August 3, 2006.

Minimum duration will change from one day to two weeks.

Currently, the Postal Service has no minimum timeframe for providing temporary forwarding services. However, the time needed to process temporary change of address orders and begin delivery of forwarded pieces to a temporary address may approach 14 days. Accordingly, short-term forwarding orders may result in mail that is en route to the customer's temporary new address not arriving prior to the customer's departure from that temporary address. This requires the Postal Service to return the mail to the customer's permanent address and delays the time the customer receives the mail. Therefore, the Postal Service will institute a new minimum duration for temporary filings of at least two weeks in length. This will help ensure the efficient forwarding of mail, allow customers to receive mail as quickly as possible, and reduce Postal Service costs. The Postal Service recommends that customers who will be temporarily away from their residences less than two weeks submit a request to hold their mail. Hold requests can be submitted in person or by mail to their post office, electronically through www.usps.com or by telephone through 1-800-ASK-USPS. Customers can ask that held mail be delivered upon their return or request to pick up the mail at their post office.

Maximum duration for an initial temporary order will change from twelve months to six months.

The Postal Service seeks to avoid the unnecessary or improper forwarding of mail. As previously stated, the majority of temporary filings last no more than six months. Therefore, the current policy that assigns a 12 month duration on temporary change of address orders that do not reflect an end date probably overstates the term desired by many customers. This would result in the unnecessary forwarding of mail and delay the receipt of correspondence by those customers. Accordingly, the Postal Service is changing its standards to limit an initial temporary change of address order to a maximum of 6 months, or, if no time period is specified, will use 6 months as the end date. Customers who wish to have their mail forwarded for a longer period may submit an additional order to extend the forwarding period up to the maximum allowable twelve month period. Prior to the expiration of the first six month period, the Postal Service will advise customers that they may renew the temporary change-of-address for an additional time period up to the maximum temporary forwarding period of twelve months. To assist customers to request additional temporary forwarding service, the Postal Service will send a letter to the customers at their temporary new address to remind them of the expiration date. Where a customer has already received temporary forwarding service for a continuous twelve month period for any same old and new address combination, the Postal Service will not accept additional temporary change-of-address orders for that customer for those same old and new address combinations.

By instituting these procedures, the Postal Service seeks to improve service and efficiency for its customers. As described above, the changes will immediately benefit customers by ensuring they receive mail in a timely manner; e.g. by reducing the amount of mail that may be delivered at a temporary address after the customer has returned to his or her permanent address. Accordingly, the Postal Service believes it is in the public interest to adopt this rule, without prior public comment, on August 3, 2006. Nevertheless, the Postal Service is inviting public comments on the rule. These comments should be submitted within 30 days from the date of this notice to the address set forth above. At the end of this period, the Postal Service will evaluate any comments it receives and consider whether the rule should be revised.

Although exempt from the notice and comment requirements of the Administrative Procedure Act (5 U.S.C. 553(b), (c)) regarding rulemaking by 39 U.S.C. 410(a), the Postal Service is seeking comments to this interim rule. The Postal Service is adopting the following interim revisions of the Domestic Mail Manual (DMM), incorporated by reference in the Code of Federal Regulations. See 39 CFR 111.1.

List of Subjects in 39 CFR Part 111

Administrative practice and procedure.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following section of the Domestic Mail Manual to read as set forth below:

* * * * *

507 Mailer Services

* * * * *

2.0 Forwarding

* * * * *

507.2.1.3 Temporary Forwarding

A customer temporarily moving away may have mail forwarded for a specific time, not to exceed twelve months total duration. The Postal Service shall provide temporary forwarding services in periods from two weeks to six months in duration based upon customer request. Customers can request temporary forwarding in excess of six months up to a maximum of twelve months by submitting a second temporary change-of-address order that will commence on the first day of the second six month period and expire on the desired date up to and including the last day of the second six month period. The customer must show beginning and ending dates in the change-of-address order.

* * * * *

An appropriate amendment to 39 CFR 111.3 will be published to reflect these changes.

Stanley F. Mires,
Chief Counsel, Legislative.

[FR Doc. E6-10606 Filed 7-6-06; 8:45 am]

BILLING CODE 7710-12-P